DEPARTMENT OF HOMELAND SECURITY

Federal Emergency Management Agency

[Docket ID: FEMA-2024-0001]

Notice of Award Amount Adjustment for Serious Needs Assistance

AGENCY: Federal Emergency Management Agency, DHS.

ACTION: Notice.

SUMMARY: FEMA gives notice of the award amount for Serious Needs Assistance provided under the Individuals and Households Program for emergencies and major disasters declared on or after October 1, 2024.

DATES: This adjustment applies to emergencies and major disasters declared on or after October 1, 2024.

FOR FURTHER INFORMATION CONTACT: Frank Matranga, Recovery Directorate, Federal Emergency Management Agency, 500 C Street SW, Washington, DC 20472, (202) 212-1000.

SUPPLEMENTARY INFORMATION: FEMA regulations at 44 CFR 206.119(b)(1) prescribe that FEMA will annually adjust the award amount for Serious Needs Assistance (SNA) provided under the Individuals and Households Program. FEMA gives notice that the award amount for SNA provided to an individual or household under section 408 of the Robert T. Stafford Disaster Relief and Emergency Assistance Act with respect to any single emergency or major disaster is $770. The increase in award amount is for any single emergency or major disaster declared on or after October 1, 2024.

FEMA bases the adjustment on an increase in the Consumer Price Index for all Urban Consumers of 2.5 percent for the 12-month period, which ended in August 2024. The Bureau of Labor Statistics of the U.S. Department of Labor released the information on September 11, 2024.

Catalog of Federal Domestic Assistance No. 97.048, Federal Disaster Assistance to Individuals and Households in Presidentially Declared Disaster Areas; 97.049, Presidentially Declared Disaster Assistance—Disaster Housing Operations for Individuals and Households; 97.050, Presidentially Declared Disaster Assistance to Individuals and Households—Other Needs.

Deanne Criswell,
Administrator, Federal Emergency Management Agency.

[FR Doc. 2024-24701 Filed 10-23-24; 8:45 am]

BILLING CODE 9111-23-P